DEPARTMENT OF COMMERCE

International Trade Administration

A-570-894

Certain Tissue Paper Products from the People's Republic of China: Extension of Time Limit for Preliminary Results of the First Administrative Review

AGENCY: Import Administration, International Trade Administration, Department of Commerce.

EFFECTIVE DATE: October 24, 2006.

FOR FURTHER INFORMATION CONTACT: Kristina Horgan or Bobby Wong, AD/CVD Operations, Office 9, Import Administration, International Trade Administration, U.S. Department of Commerce, 14th Street and Constitution Avenue, NW, Washington, DC 20230; telephone: (202) 482-8173, or (202) 482-0409, respectively.

SUPPLEMENTARY INFORMATION:

Background

On March 30, 2005, the Department of Commerce (the Department) published in the Federal Register an antidumping duty order covering certain tissue paper from the People's Republic of China (PRC). Notice of Amended Final Determination of Sales at Less than Fair Value and Antidumping Duty Order: Certain Tissue Paper Products from the People's Republic of China, 70 FR 16223 (March 30, 2005). On March 2, 2006, the Department published a Notice of Opportunity to Request Administrative Review of Antidumping or Countervailing Duty Order, Finding, or Suspended Investigation, 71 FR 10642 (March 2, 2006). On April 28, 2006, the Department initiated an administrative review of 20 companies. Initiation of Antidumping and Countervailing Duty Administrative Reviews, 71 FR 25145 (April 28, 2006).

On August 25, 2006, Seaman Paper Company of Massachusetts, Inc., petitioner, filed a letter withdrawing its request for review of five companies, Fujian Naoshan Paper Industry Group Co., Ltd., Fuzhou Magicpro Gifts Co., Ltd., Guilin Qifeng Paper Co., Ltd., Goldwing Co., Ltd., and AR Printing and Packaging. Because petitioner was the only party to request a review of these five companies, on September 29, 2006, the Department rescinded this review with respect to these five companies. Notice of Partial Rescission of Antidumping Duty Administrative Review: Certain Tissue Paper Products from the People's Republic of China, 71 FR 57471 (September 29, 2006).

The Department has issued its antidumping duty questionnaire to Samsam Productions Ltd. and its affiliated Chinese supplier Guangzhou Baxi Printing Products Co., Ltd. and Max Fortune Industrial Limited and Max Fortune Paper Products Co., Ltd.¹ The deadline for completion of the preliminary results is currently December 1, 2006.

¹ The remaining companies have either placed statements on the record of this review claiming no shipments of subject merchandise during the period of review or have stated that they would not participate in the review.

Extension of Time Limits for Preliminary Results

Section 751(a)(3)(A) of the Tariff Act of 1930, as amended (the Act), and 19 CFR 351.213(h)(1) require the Department to issue the preliminary results of an administrative review within 245 days after the last day of the anniversary month of the order for which the administrative review was requested, and the final results of the review within 120 days after the date on which the notice of the preliminary results was published in the Federal Register. However, if the Department determines that it is not practicable to complete the review within this time period, section 751(a)(3)(A) of the Act and 19 CFR 351.213(h)(2) allow the Department to extend the 245-day period to 365 days and the 120-day period to 180 days.

Pursuant to section 751(a)(3)(A) of the Act and 19 CFR 351.213(h), we determine that it is not practicable to complete this administrative review within the statutory time limit of 245 days. The Department requires additional time to issue and analyze supplemental questionnaires and conduct verifications. In particular, there are complex factors of production methodology issues, which the Department requires additional time to review. Therefore, in accordance with section 751(a)(3)(A) of the Act and 19 CFR 351.213(h)(2), the Department is extending the time limit for the completion of these preliminary results by an additional 77 days to February 16, 2007. The final results, in turn, will be due 120 days after the date of issuance of the preliminary results, unless extended.

This notice is issued and published in accordance with sections 751(a)(3)(A) and 777(i)(1) of the Act.

Dated: October 16, 2006.
Stephen J. Claeys,
Deputy Assistant Secretary for Import Administration.

[FR Doc. E6-17780 Filed 10-23-06; 8:45 am]

BILLING CODE 3510-DS-S